DEPARTMENT OF TRANSPORTATION

Research and Special Programs Administration; Office of Hazardous Materials Safety; Notice of Applications for Exemptions

AGENCY: Research and Special Programs Administration, DOT.

ACTION: List of applicants for exemptions.

SUMMARY: In accordance with the procedures governing the application for, and the processing of, exemptions from the Department of Transportation's Hazrdous Materials Regulations (49 CFR Part 107, Subpart B), notice is hereby given that the Office of Hazardous Materials Safety has received the applications described herein. Each mode of transportation for which a particular exemption is requested is indicated by a number in the “Nature of Application” portion of the table below as follows: 1-Motor vehicle, 2-Rail freight, 3-Cargo vessel, 4-Cargo aircraft only, 5-Passenger-carrying aircraft.

DATES: Comments must be received on or before August 23, 2001.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117 (b); 49 CFR 1.53 (b)).

Issued in Washington, DC, on July 19, 2001.
J. Suzanne Hedgepeth,
Director, Office of Hazardous Materials Exemptions and Approvals.

New Exemptions
Application No. | Docket No. | Applicant | Regulation(s) affected | Nature of exemption thereof
12661-N | RSPA-01-9217 | United Parcel Service (UPS), Atlanta, GA | 49 CFR 171.2(a) & (b), 172, Subparts C, D & E, 173.1, 173.22, 173.24, 177.801, 177.817 | To authorize the transportation in commerce of certain hazardous materials that are not properly packaged, marked, labeled or classed in accordance with the 49 CFR. (mode 1).
12741-N | RSPA-01-10116 | Thunderbird Cylinder Inc., Phoenix, AZ | 49 CFR (e)(12), (e)(16), (e)(17), 173.302(c)(2), (3), (4), & (5), 173.34 (e)(1), (e)(3), (e)(4), (e)(5), (e)(6), (e)(8) | To authorize the transportation in commerce of certain DOT Specification 3A and 3AA cylinders which have been alternatively ultrasonically retested for use in transporting Division 2.1, 2.2 and 2.3 materials. (modes 1, 2, 3, 4, 5).
12744-N | RSPA-01-10126 | Alcoa Inc. of Pittsburgh, Pittsburgh, PA | 49 CFR 171-180 | To authorize the transportation in commerce of electric storage batteries containing electrolyte or corrosive battery fluid when transported in a motor vehicle containing no hazardous materials other than materials of trade (MOTs) as essentially unregulated. (mode 1).
12745-N | RSPA-01-10125 | BioLab Inc., Decatur, GA | 49 CFR 173.24(g)(4) | To authorize the transportation in commerce of Class 8 material in vented intermediate bulk containers (IBC). (modes 1, 2, 3).
12746-N | RSPA-01-10124 | The Reichhold, Inc., Chickamauga, GA | 49 CFR 174.67(i) & (j) | To authorize rail cars containing Division 2.1 hazardous material to remain standing while connected without the physical presence of an unloader. (mode 2).
12747-N | RSPA-01-10103 | Brenntag Southeast Inc., Durham, NC | 49 CFR 172.302(a) & (c) | To authorize the transportation in commerce of oxidizing solid, n.o.s. in flexible intermediate bulk containers (IBC) shipped in accordance with IMDG regulations without required markings or placardings transported inside box trailers with required placarding. (mode 2).
12748-N | RSPA-01-10123 | Lockheed Martin Missiles & Space Co., Santa Cruz, CA | 49 CFR 178.601(a) | To authorize the transportation in commerce of alternative, non-POP tested containers for use in transporting small explosive articles for military and commercial spacecraft and missiles. (mode 1).
12749-N | RSPA-01-10122 | Questar, North Canton, OH | 49 CFR 173.12(b)(2)(i) | To authorize the manufacture, marking, sale and use of certain UN 11G fiberboard intermediate bulk containers (IBC) for use as the outer packaging for lab pack applications. (mode 1).
12750-N | RSPA-01-10121 | Questar, North Canton, OH | 49 CFR 173.12(b)(2)(i) | To authorize the manufacture, marking, sale and use of UN 13H4 Flexible Intermediate Bulk Containers (IBC) for use as outer packaging for lab pack application for us in transporting hazardous wastes. (mode 1).
12751-N | RSPA-01-10106 | Defense Technology Corporation, Casper, WY | 49 CFR 173.302 | To authorize the manufacture, marking, sale and use of refillable non-DOT specification cylinder similar to a DOT-Specification 39 cylinder for use in transporting compressed gas, Division 2.2. (modes 1, 3, 4).
12753-N | RSPA-01-10118 | Praxair, Inc., Danbury, CT | 49 CFR 173.304(a) | To authorize the transportation in commerce of certain toxic gases in 3AX and 3AAX cylinders not presently authorized for use in transporting dichlorosilane, Division 2.3, (mode 1).
12755-N | RSPA-01-10114 | Air Canada, Ottawa, ON | 49 CFR 175.75 | To authorize the transportation in commerce of hazardous materials by aircraft that exceed the quantity limitations in the HMR. (modes 4, 5).
12756-N | RSPA-01-10112 | Department of Energy, Oak Ridge, TN | 49 CFR 173 & 178 | To authorize the one-time transportation in commerce of certain explosive materials that exceed their shelf life, are no longer need or are obsolete in specially designed containers and trailers. (mode 1).
12758-N | RSPA-01-10110 | Pacific Northwest Equipment Inc., Seattle, WA | 49 CFR 172.101, 173.32c(g), 173.2, 176.83, 178.207-12 | To authorize the transportation in commerce of IM-102 tanks that are equipped with alternative internal discharge valves for use in transporting blasting agents. (mode 3).
12760-N | RSPA-01-10108 | Thiokol Propulsion, Brigham City, UT | 49 CFR 173.3(a)(b), 173.62, 178, Subpart L and M | To authorize the transportation in commerce of certain rocket propellants between its plant and test areas in non-DOT specification containers. (mode 1).
12762-N | RSPA-01-10104 | Pro-Virus Inc., Gaithersburg, MD | 49 CFR 172.203, 172.301(c), 172.303(a), 172.401(a)(1)(2) | To authorize the transportation in commerce of non-bulk pre-packed combination packagings containing various classes of hazardous materials between facilities to be transported as essentially unregulated without proper shipping papers. (mode 1).
12768-N | RSPA-01-10133 | BOC Gases, Murray Hill, NJ | 49 CFR 173.31(a), 179.13 | To authorize the transportation in commerce of tank cars, containing carbon dioxide, refrigerated liquid, Division 2.2 with a maximum gross weight on rails of 286,000 pounds. (mode 2).
12770-N | RSPA-01-10130 | Empire Airlines, Inc., Coeur d'Alene, ID | 49 CFR 175.85(b) | To authorize an alternative loading method of hazardous materials on cargo aircraft. (mode 4).

[FR Doc. 01-18404 Filed 7-23-01; 8:45 am]

BILLING CODE 4910-60-M